DEPARTMENT OF HOMELAND SECURITY

Coast Guard

33 CFR PART 27

[USCG-2003-15486]

RIN 1625-AA73

Civil Monetary Penalties—Adjustments for Inflation

AGENCY: Coast Guard, DHS.

ACTION: Final rule.

SUMMARY: The Coast Guard is adjusting fines and other civil monetary penalties to reflect the impact of inflation. These adjustments are made in accordance with the Federal Civil Penalties Inflation Adjustment Act of 1990, as amended by the Debt Collection Improvement Act of 1996.

DATES: This final rule is effective January 22, 2004.

ADDRESSES: Material received from the public, as well as documents mentioned in this preamble as being available in the docket, are part of docket USCG-2003-15486 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. Robert Spears of the Office of Standards Evaluation and Development, Coast Guard, telephone 202-267-1099 or 202-267-6826. If you have questions on viewing the docket, call Andrea M. Jenkins, Program Manager, Docket Operations, Department of Transportation, telephone 202-366-0271.

SUPPLEMENTARY INFORMATION:

Background and Purpose

Many fines or other civil monetary penalties (CMPs) for violating Federal laws and regulations were set by Congress long ago, and their deterrent value has weakened with time due to inflation. Congress recognizes this problem and has devised a mechanism to address it. It provides mandatory inflation adjustment formulas and requires Federal agencies to adjust their CMPs using those formulas at least once every four years, making further direct involvement by Congress unnecessary. This mechanism derives from the Federal Civil Penalties Inflation Adjustment Act of 1990, Pub. L. 101-410, 104 Stat. 890, §§ 1-6, as amended by the Debt Collection Improvement Act of 1996, Pub. L. 104-134, 110 Stat. 1321, § 31001(s)(1); see 28 U.S.C. 2461 note (collectively, “the statute”).

The Coast Guard is amending 33 CFR 27.3 to update CMP adjustments first made in 1997. We expect to repeat the adjustment process in 2007 and quadrennially thereafter. We are also making two non-substantive changes, amending 33 CFR 27.1 to make the legislative authority for CMP adjustments clearer, and removing 33 CFR 27.2 which applied specifically to the 1997 adjustments and is no longer necessary.

Regulatory Procedure

This final rule is published without prior notice of proposed rulemaking or public comment. Pursuant to the Administrative Procedure Act, 5 U.S.C. 553(b)(3)(B), the Coast Guard finds that good cause exists for dispensing with notice and comment in this rulemaking. This rulemaking implements the Federal Civil Penalties Inflation Adjustment Act of 1990, as amended by the Debt Collection Improvement Act of 1996, and with the exception of the non-substantive changes described above, that legislation mandates all our actions and allows us no discretion in implementation, so that prior notice and comment is unnecessary and contrary to the public interest.

Method of Calculation

The statute (see “Background and Purpose”) requires inflation adjustments to be based on changes in the Consumer Price Index (CPI) from June of the calendar year in which the penalties were last set or adjusted, through June of the year prior to the adjustment. The statute also includes precise rules for rounding penalty increases. It limits the first adjustments of an agency's penalties to 10 percent of the penalty amounts. Our method of calculation takes into account the General Accounting Office (GAO) report “United States Coast Guard Implementation of the Inflation Adjustment Act,” (GAO-03-221R, Nov. 1, 2002) and subsequent discussions with the GAO. Table A below sets forth each CMP provision which is being increased in 2003 and shows the intermediate calculations performed to arrive at the adjusted final maximum penalty contained in the last column.

BILLING CODE 4910-15-P

BILLING CODE 4910-15-C

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This rule concerns civil monetary penalties imposed for violating Federal law and regulations. It has no impact on law-abiding persons.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule concerns civil monetary penalties imposed for violating Federal law and regulations. It has no impact on law-abiding persons.

Therefore, the Coast Guard certifies under 5 U.S.C. 605(b) that this final rule will not have a significant economic impact on a substantial number of small entities.

Assistance for Small Entities

In accordance with section 213(a) of the Small Business Regulatory Enforcement Fairness Act of 1996 (Pub. L. 104-121), we will assist small entities in understanding this rule. If you are a small entity and the Coast Guard has assessed a civil monetary penalty against you, let your hearing officer know if you need help understanding the provisions of this rule or how it applies to you.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. This rule affects only those persons who violate Federal law or regulations, and involves no discretion on the part of the Coast Guard.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, figure 2-1, paragraph (34)(a) of the Instruction categorically excludes this rule from further environmental documentation. An “Environmental Analysis Check List” and a “Categorical Exclusion Determination” are available in the docket where indicated under ADDRESSES.

List of Subjects in 33 CFR Part 27

Marine safety, Oil pollution, Penalties, Vessels, Waterways.

For the reasons discussed in the preamble, the Coast Guard amends 33 CFR part 27 as follows:

PART 27—ADJUSTMENT OF CIVIL MONETARY PENALTIES FOR INFLATION

1. Revise the authority citation for part 27 to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

2. Revise § 27.1 to read as follows:

§ 27.1 Applicability.

This part implements the Federal Civil Penalties Inflation Adjustment Act of 1990, as amended, by periodically adjusting the maximum civil monetary penalty provided by statute for laws administered by the Coast Guard and assessable in either civil judicial or administrative proceedings.

§ 27.2 [Removed]

3. Remove § 27.2.

4. Revise § 27.3 to read as follows:

§ 27.3 Penalty Adjustment Table.

Table 1 identifies statutes administered by the Coast Guard that authorize a civil monetary penalty. The “adjusted maximum penalty” is the maximum penalty authorized by the Federal Civil Penalties Inflation Adjustment Act of 1990, as amended, as determined by the Coast Guard.

Table 1.—Civil Monetary Penalty Inflation Adjustments
U.S. Code citation | Civil monetary penalty description | Adjusted maximum penalty amount ($)*
14 U.S.C. 88(c) | Saving Life and Property | 6,500
14 U.S.C. 645(i) | Confidentiality of Medical Quality Assurance Records (first offense) | 3,300
14 U.S.C. 645(i) | Confidentiality of Medical Quality Assurance Records (subsequent offenses) | 27,000
33 U.S.C. 471 | Anchorage Ground/Harbor Regulations General | 110
33 U.S.C. 474 | Anchorage Ground/Harbor Regulations St. Mary's river | 220
33 U.S.C. 495 | Bridges/Failure to Comply with Regulations | 1,100
33 U.S.C. 499 | Bridges/Drawbridges | 1,100
33 U.S.C. 502 | Bridges/Failure to Alter Bridge Obstructing Navigation | 1,100
33 U.S.C. 533 | Bridges/Maintenance and Operation | 1,100
33 U.S.C. 1208(a) | Bridge to Bridge Communication | 650
33 U.S.C. 1208(b) | Bridge to Bridge Communication | 650
33 U.S.C. 1232 | PWSA Regulations | 32,500
33 U.S.C. 1236(b) | Vessel Navigation: Regattas or Marine Parades | 6,500
33 U.S.C. 1236(c) | Vessel Navigation: Regattas or Marine Parades | 6,500
33 U.S.C. 1236(d) | Vessel Navigation: Regattas or Marine Parades | 2,750
33 U.S.C. 1319(d) | Pollution Prevention | 32,500
33 U.S.C. 1319(g)(2)(A) | Pollution Prevention (per violation) | 11,000
33 U.S.C. 1319(g)(2)(A) | Pollution Prevention (total under subparagraph) | 32,500
33 U.S.C. 1319(g)(2)(B) | Pollution Prevention (per day of violation) | 11,000
33 U.S.C. 1319(g)(2)(B) | Pollution Prevention (total under subparagraph) | 157,500
33 U.S.C. 1321(b)(6)(B)(i) | Oil/Hazardous Substances: Discharges (per violation) | 11,000
33 U.S.C. 1321(b)(6)(B)(i) | Oil/Hazardous Substances: Discharges (total under paragraph) | 32,500
33 U.S.C. 1321(b)(6)(B)(ii) | Oil/Hazardous Substances: Discharges (per day of violation) | 11,000
33 U.S.C. 1321(b)(6)(B)(ii) | Oil/Hazardous Substances: Discharges (total under paragraph) | 157,500
33 U.S.C. 1321(b)(7)(A) | Oil/Hazardous Substances: Discharges (per day of violation) | 32,500
33 U.S.C. 1321(b)(7)(A) | Oil/Hazardous Substances: Discharges (per barrel of oil or unit of hazsub discharged) | 1,100
33 U.S.C. 1321(b)(7)(B) | Oil/Hazardous Substances: Discharges | 32,500
33 U.S.C. 1321(b)(7)(C) | Oil/Hazardous Substances: Discharges | 32,500
33 U.S.C. 1321(b)(7)(D) | Oil/Hazardous Substances: Discharges (per barrel of oil or unit of hazsub discharged). | 3,300
33 U.S.C. 1321(j) | Oil/Hazardous Substances: Prevention Regulations | 32,500
33 U.S.C. 1322(j) | Marine Sanitation Devices | 2,200
33 U.S.C. 1322(j) | Marine Sanitation Devices | 6,500
33 U.S.C. 1517(a) | Deepwater Ports Regulations | 11,000
33 U.S.C. 1608(a) | International Regulations | 6,500
33 U.S.C. 1608(b) | International Regulations | 6,500
33 U.S.C. 1908(b)(1) | Pollution from Ships | 32,500
33 U.S.C. 1908(b)(2) | Pollution from Ships | 6,500
33 U.S.C. 2072(a) | Inland Navigation Rules | 6,500
33 U.S.C. 2072(b) | Inland Navigation Rules | 6,500
33 U.S.C. 2609(a) | Shore Protection | 32,500
33 U.S.C. 2609(b) | Shore Protection | 11,000
33 U.S.C. 2716a(a) | Oil Pollution Liability and Compensation | 32,500
46 U.S.C. 1505(a) | Safe Containers for International Cargo | 6,500
46 U.S.C. App 1805(c)(2) | Suspension of passenger service | 60,000
46 U.S.C. 2110(e) | Vessel inspection or examination fees | 6,500
46 U.S.C. 2115 | Alcohol and dangerous drug testing | 5,500
46 U.S.C. 2302(a) | Negligent operations: recreational vessels | 5,000
46 U.S.C. 2302(a) | Negligent operations: other vessels | 25,000
46 U.S.C. 2302(c)(1) | Negligent operations | 5,500
46 U.S.C. 2306(a)(2)(B)(4) | Vessel Reporting Requirements: Owner | 6,500
46 U.S.C. 2306(b)(2) | Vessel Reporting Requirements: Master | 1,100
46 U.S.C. 3102(c)(1) | Immersion suits | 6,500
46 U.S.C. 3302(i)(5) | Inspection Permit | 1,100
46 U.S.C. 3318(a) | Vessel inspection | 6,500
46 U.S.C. 3318(g) | Vessel inspection | 6,500
46 U.S.C. 3318(h) | Vessel inspection | 1,100
46 U.S.C. 3318(i) | Vessel inspection | 1,100
46 U.S.C. 3318(j)(1) | Vessel inspection | 11,000
46 U.S.C. 3318(j)(1) | Vessel inspection | 2,200
46 U.S.C. 3318(k) | Vessel inspection | 11,000
46 U.S.C. 3318(l) | Vessel inspection | 6,500
46 U.S.C. 3502(e) | List/count of passengers | 110
46 U.S.C. 3504(c) | Notification to passengers | 11,000
46 U.S.C. 3504(c) | Notification to passengers | 650
46 U.S.C. 3506 | Copies of laws on passenger vessels | 220
46 U.S.C. 3718(a)(1) | Dangerous cargo carriage | 32,500
46 U.S.C. 4106 | Uninspected vessels | 6,500
46 U.S.C. 4311(b) | Recreational vessels (maximum for related series of violations) | 120,000
46 U.S.C. 4311(b) | Recreational vessels | 2,200
46 U.S.C. 4311(c) | Recreational vessels | 1,100
46 U.S.C. 4507 | Vessel inspection | 6,500
46 U.S.C. 4703 | Abandonment of barges | 1,100
46 U.S.C. 5116(a) | Load lines | 6,500
46 U.S.C. 5116(b) | Load lines | 11,000
46 U.S.C. 5116(c) | Load lines | 6,500
46 U.S.C. 6103(a) | Reporting marine casualties | 27,500
46 U.S.C. 6103(b) | Reporting marine casualties | 6,500
46 U.S.C. 8101(e) | Manning of inspected vessels | 1,100
46 U.S.C. 8101(f) | Manning of inspected vessels | 11,000
46 U.S.C. 8101(g) | Manning of inspected vessels | 11,000
46 U.S.C. 8101(h) | Manning of inspected vessels | 1,100
46 U.S.C. 8102(a) | Watchmen on passenger vessels | 1,100
46 U.S.C. 8103(f) | Citizenship requirements | 650
46 U.S.C. 8104(i) | Watches on vessels | 11,000
46 U.S.C. 8104(j) | Watches on vessels | 11,000
46 U.S.C. 8302(e) | Staff department on vessels | 110
46 U.S.C. 8304(d) | Officer's competency certificates | 110
46 U.S.C. 8502(e) | Coastwise Pilotage | 11,000
46 U.S.C. 8502(f) | Coastwise Pilotage | 11,000
46 U.S.C. 8503 | Federal Pilots | 32,500
46 U.S.C. 8701(d) | Merchant mariners documents | 650
46 U.S.C. 8702(e) | Crew requirements | 11,000
46 U.S.C. 8906 | Small vessel manning | 27,500
46 U.S.C. 9308(a) | Pilotage: Great Lakes | 11,000
46 U.S.C. 9308(b) | Pilotage: Great Lakes | 11,000
46 U.S.C. 9308(c) | Pilotage: Great Lakes | 11,000
46 U.S.C. 10104(b) | Failure to report sexual offense | 6,500
46 U.S.C. 10307 | Posting of agreements | 110
46 U.S.C. 10308(b) | Foreign engagements by seamen | 110
46 U.S.C. 10309(b) | Replacement of lost/deserted seamen | 220
46 U.S.C. 10310 | Discharge of seamen | 65
46 U.S.C. 10312(c) | Foreign/intercoastal voyages | 110
46 U.S.C. 10314(a)(2) | Pay advances to seamen | 650
46 U.S.C. 10314(b) | Pay advances to seamen | 650
46 U.S.C. 10315(c) | Allotment to seamen | 650
46 U.S.C. 10321 | Seamen protection: general | 220
46 U.S.C. 10505(b) | Advances | 650
46 U.S.C. 10508(b) | Seamen protection: general | 22
46 U.S.C. 10711 | Effects of deceased seamen | 220
46 U.S.C. 10902(a)(2) | Complaints of unfitness | 650
46 U.S.C. 10903(d) | Proceedings on examination of vessel | 110
46 U.S.C. 10907(b) | Permission to make complaint | 650
46 U.S.C. 11101(f) | Accommodations for seamen | 650
46 U.S.C. 11102(b) | Medicine chests on vessels | 650
46 U.S.C. 11104(b) | Destitute seamen | 110
46 U.S.C. 11105(c) | Wages on discharge | 650
46 U.S.C. 11303(a) | Log books | 220
46 U.S.C. 11303(b) | Log books | 220
46 U.S.C. 11303(c) | Log books | 165
46 U.S.C. 11506 | Carrying of sheath knives | 65
46 U.S.C. 12122(a) | Identification of vessels | 11,000
46 U.S.C. 12122(c) | Vessel Documentation | 110,000
46 U.S.C. 12309(b) | Numbering of undocumented vessels | 1,100
46 U.S.C. 12507(b) | Vessel identification system | 11,000
46 U.S.C. 14701 | Measurement of vessels | 27,000
46 U.S.C. 14701 | Registry/recording: tonnage | 27,000
46 U.S.C. 14702 | Measurement/false statements | 27,000
46 U.S.C. 31309 | Instruments and liens | 11,000
49 U.S.C. 5123(a)(1)** | Hazardous materials—related to vessels | 32,500
* The penalty amounts listed in this column include penalties that were adjusted in 1997 and 2003; some penalties that were adjusted in 1997 did not qualify for an adjustment this year according to the rounding rules. However, we decided to include the adjusted 1997 penalties that were not adjusted in 2003 to show the comprehensive list of civil penalties.
** 49 U.S.C. 5123(a)(1) was formerly 49 U.S.C. 1809(a)(1).

Dated: December 5, 2003.
L.L. Hereth,
Rear Admiral, Coast Guard, Acting Assistant Commandant for Marine Safety, Security and Environmental Protection.

[FR Doc. 03-31491 Filed 12-22-03; 8:45 am]

BILLING CODE 4910-15-P